DEPARTMENT OF THE TREASURY

Office of Foreign Assets Control

31 CFR Part 587

Publication of Russian Harmful Foreign Activities Sanctions Regulations Web General Licenses 55D and 115B

AGENCY: Office of Foreign Assets Control, Treasury.

ACTION: Publication of web general licenses.

SUMMARY: The Department of the Treasury's Office of Foreign Assets Control (OFAC) is publishing two general licenses (GLs) issued pursuant to the Russian Harmful Foreign Activities Sanctions Regulations: GLs 55D and 115B, each of which was previously made available on OFAC's website.

DATES: GL 55D was issued on June 18, 2025. See SUPPLEMENTARY INFORMATION for additional relevant dates.

FOR FURTHER INFORMATION CONTACT: OFAC: Assistant Director for Regulatory Affairs, 202-622-4855; or https://ofac.treasury.gov/contact-ofac.

SUPPLEMENTARY INFORMATION:

Electronic Availability

This document and additional information concerning OFAC are available on OFAC's website: https://ofac.treasury.gov/.

Background

On June 18, 2025, and June 27, 2025, OFAC issued GLs 55D and 115B, respectively, to authorize certain transactions otherwise prohibited by the Russian Harmful Foreign Activities Sanctions Regulations, 31 CFR part 587. Each GL was made available on OFAC's website (https://ofac.treasury.gov) when it was issued. GLs 55D and 115B replaced and superseded GLs 55C and 115A, respectively. Both GLs have an expiration date of December 19, 2025. The text of these GLs is provided below.

OFFICE OF FOREIGN ASSETS CONTROL

Russian Harmful Foreign Activities Sanctions Regulations

31 CFR Part 587

GENERAL LICENSE NO. 55D

Authorizing Certain Services Related to Sakhalin-2

(a) Except as provided in paragraph (d) of this general license, all transactions prohibited by the determination of November 21, 2022 made pursuant to section 1(a)(ii) of Executive Order (E.O.) 14071 (“Prohibitions on Certain Services as They Relate to the Maritime Transport of Crude Oil of Russian Federation Origin”) related to the maritime transport of crude oil originating from the Sakhalin-2 project (“Sakhalin-2 byproduct”) are authorized through 12:01 a.m. eastern standard time, December 19, 2025, provided that the Sakhalin-2 byproduct is solely for importation into Japan.

(b) Except as provided in paragraph (d) of this general license, all transactions prohibited by E.O. 14024 involving Gazprombank Joint Stock Company (Gazprombank) or any entity in which Gazprombank owns, directly or indirectly, a 50 percent or greater interest, that are related to the Sakhalin-2 project, including such transactions involving Sakhalin Energy LLC, are authorized through 12:01 a.m. eastern standard time, December 19, 2025.

(c) Except as provided in paragraph (d) of this general license, all transactions prohibited by the determination of January 10, 2025 made pursuant to section 1(a)(ii) of E.O. 14071 (“Prohibition on Petroleum Services”) that are related to the Sakhalin-2 project are authorized through 12:01 a.m. eastern standard time, December 19, 2025.

(d) This general license does not authorize:

(1) Any transactions prohibited by Directive 2 under E.O. 14024, Prohibitions Related to Correspondent or Payable-Through Accounts and Processing of Transactions Involving Certain Foreign Financial Institutions;

(2) Any transactions prohibited by Directive 4 under E.O. 14024, Prohibitions Related to Transactions Involving the Central Bank of the Russian Federation, the National Wealth Fund of the Russian Federation, and the Ministry of Finance of the Russian Federation; or

(3) Any transactions otherwise prohibited by the Russian Harmful Foreign Activities Sanctions Regulations, 31 CFR part 587 (RuHSR), including transactions involving any person blocked pursuant to the RuHSR, other than the blocked persons described in paragraph (b), unless separately authorized.

(e) Effective June 18, 2025, General License No. 55C, dated November 21, 2024, is replaced and superseded in its entirety by this General License No. 55D.

Lisa M. Palluconi,

Acting Director, Office of Foreign Assets Control.

Dated: June 18, 2025.

OFFICE OF FOREIGN ASSETS CONTROL

Russian Harmful Foreign Activities Sanctions Regulations

31 CFR Part 587

GENERAL LICENSE NO. 115B

Authorizing Certain Transactions Related to Civil Nuclear Energy

(a) Except as provided in paragraph (c) of this general license, all transactions prohibited by Executive Order (E.O.) 14024 involving one or more of the following entities that are related to civil nuclear energy are authorized through 12:01 a.m. eastern standard time, December 19, 2025:

(1) Gazprombank Joint Stock Company;

(2) State Corporation Bank for Development and Foreign Economic Affairs Vnesheconombank;

(3) Public Joint Stock Company Bank Financial Corporation Otkritie;

(4) Sovcombank Open Joint Stock Company;

(5) Public Joint Stock Company Sberbank of Russia;

(6) VTB Bank Public Joint Stock Company;

(7) Joint Stock Company Alfa-Bank;

(8) Public Joint Stock Company Rosbank;

(9) Bank Zenit Public Joint Stock Company;

(10) Bank Saint-Petersburg Public Joint Stock Company;

(11) National Clearing Center (NCC);

(12) Any entity in which one or more of the above persons own, directly or indirectly, individually or in the aggregate, a 50 percent or greater interest; or

(13) the Central Bank of the Russian Federation.

(b) For the purposes of this general license, the term “related to civil nuclear energy” means transactions undertaken solely to maintain or support civil nuclear projects initiated before November 21, 2024.

(c) This general license does not authorize:

(1) The opening or maintaining of a correspondent account or payable-through account for or on behalf of any entity subject to Directive 2 under E.O. 14024, Prohibitions Related to Correspondent or Payable-Through Accounts and Processing of Transactions Involving Certain Foreign Financial Institutions;

(2) Any debit to an account on the books of a U.S. financial institution of the Central Bank of the Russian Federation, the National Wealth Fund of the Russian Federation, or the Ministry of Finance; or

(3) Any transactions otherwise prohibited by the Russian Harmful Foreign Activities Sanctions Regulations, 31 CFR part 587 (RuHSR), including transactions involving any person blocked pursuant to the RuHSR other than the blocked persons described in paragraph (a) of this general license, unless separately authorized.

(d) Effective June 27, 2025, General License No. 115A, dated January 10, 2025, is replaced and superseded in its entirety by this General License No. 115B.

Lisa M. Palluconi,

Acting Director, Office of Foreign Assets Control.

Dated: June 27, 2025.

Lisa M. Palluconi,
Acting Director, Office of Foreign Assets Control.

[FR Doc. 2025-13836 Filed 7-22-25; 8:45 am]

BILLING CODE 4810-AL-P